DEPARTMENT OF DEFENSE

Department of the Air Force

[USAF-2007-0017]

Privacy Act of 1974; System of Records

AGENCY: Department of the Air Force, DoD.

ACTION: Notice to Add a System of Records.

SUMMARY: The Department of the Air Force proposes to add a system of records notice to its inventory of records systems subject to the Privacy Act of 1974 (5 U.S.C. 552a), as amended.

DATES: The actions will be effective on April 6, 2007 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on February 26, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 28, 2007.
C.R. Choate,
Alternate OSD Federal Register Liaison Officer, Department of Defense.

F0 33 AFRC A

System name:

Reserve Participation Management Systems.

System location:

Headquarters, United States Air Force Reserve Command (AFRC), 155 Richard Ray Blvd., Building 210, Robins AFB, GA 31098-1635.

Categories of individuals covered by the system:

Air Force Reserve civilian and military personnel to include reservists and Individual Mobilization Augmentees (IMAs)).

Categories of records in the system:

Name, Social Security Number (SSN), organization name, e-mail address, skills, biography, assignment history, duty types and dates.

Authority for maintenance of the system:

10 U.S.C. 10204, Personal Records; Air Force Policy Directive 36-26, Military Force Management; and E.O. 9397 (SSN).

Purpose(s):

To assist officials and employees of the Air Force Reserve in their official duties related to the management, supervision, and administration of personnel, and in the operation of personnel affairs and functions.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the Air Force's compilation of systems of records notices apply to this system.

Polices and practices for storing, retrieving, accessing, retaining, and disposing of records in the system:

Storage:

Electronic storage media.

Retrievability:

Records are retrieved by name and Social Security Number (SSN).

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and disposal:

Data stored digitally is retained until a member leaves the Air Force Reserve. Non-active data records are digitally archived within the system until it is determined it can be disposed of.

System manager(s) and address:

AFRC Deputy Chief Information Officer for Software Integration, Directorate of Communications and Information, HQ AFRC/A6, 155 Richard Ray Blvd., Robins AFB, GA 31098-1635.

Notification procedure:

Individuals seeking to determine whether information about themselves is contained in this system should address written inquiries to AFRC Deputy Chief Information Officer for Software Integration, Directorate of Communications and Information, HQ AFRC/A6, 155 Richard Ray Blvd., Robins AFB, GA 31098-1635 or via e-Mail to reservenet@afrc.af.mil.

Requests should contain the individual's full name, Social Security Number, current address, and telephone number.

Record access procedures:

Individuals seeking access to information about themselves contained in this system should address written inquiries to AFRC Deputy Chief Information Officer for Software Integration, Directorate of Communications and Information, HQ AFRC/A6, 155 Richard Ray Blvd., Robins AFB, GA 31098-1635 or via e-mail to reservenet@afrc.af.mil.

Requests should contain the individual's full name, Social Security Number, current address, and telephone number.

Contesting records procedures:

The Air Force rules for accessing records and for contesting and appealing initial agency determinations are published in AFI 33-332; 32 CFR part 806b; or may be obtained from the system manager.

Record source categories:

Information is obtained from individuals or authorized Air Force/DoD automated systems such as the Military Personnel Data System (MILPDS), the Air Force Fitness Management System, and the Preventive Health Assessment.

Exemptions claimed for the system:

None.

[FR Doc. E7-4022 Filed 3-6-07; 8:45 am]

BILLING CODE 5001-06-P